DEPARTMENT OF ENERGY

Federal Energy Regulatory Commission

[Docket No. RP01-435-000]

Williston Basin Interstate Pipeline Company; Notice of Tariff Filing

June 6, 2001.

Take notice that on May 31, 2001, Williston Basin Interstate Pipeline Company (Williston Basin), tendered for filing as part of its FERC Gas Tariff, Second Revised Volume No. 1, certain revised tariff sheets to to become effective July 1, 2001.

Williston Basin states that the revised tariff sheets reflect the annual reconciliation of the latest GSR cost recovery period, the elimination of the Rate Schedule IT-1 base rate unit cost, and the establishment of a new reservation charge surcharge applicable to service under Rate Schedule FT-1.

Any person desiring to be heard or to protest said filing should file a motion to intervene or a protest with the Federal Energy Regulatory Commission, 888 First Street, N.E., Washington, D.C. 20426, in accordance with Sections 385.214 or 385.211 of the Commission's Rule and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-14695 Filed 6-11-01; 8:45 am]

BILLING CODE 6717-01-M